FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than June 1, 2015.

A. Federal Reserve Bank of Atlanta (Chapelle Davis, Assistant Vice President) 1000 Peachtree Street NE., Atlanta, Georgia 30309:

1. CapGen Capital Group III LP, and CapGen Capital Group III LLC, both in New York, New York, and Seacoast Banking Corporation of Florida, Stuart, Florida; to merge with Grand Bankshares, Inc., and thereby indirectly acquire Grand Bank & Trust Company of Florida, both in West Palm Beach, Florida.

B. Federal Reserve Bank of St. Louis (Yvonne Sparks, Community Development Officer) P.O. Box 442, St. Louis, Missouri 63166-2034:

1. M&P Community Bancshares, Inc., 401(k) Employee Stock Ownership Plan, Newport, Arkansas; to acquire no more than 37 percent of the voting shares of M&P Community Bancshares, Inc., and thereby indirectly acquire voting shares of Merchants & Planters Bank, both in Newport, Arkansas.

C. Federal Reserve Bank of Kansas City (Dennis Denney, Assistant Vice President) 1 Memorial Drive, Kansas City, Missouri 64198-0001:

1. UniBanc Corp., Maywood, Nebraska; to acquire 100 percent of the voting shares of Bank of Stapleton, Stapleton, Nebraska.

In connection with this application, Applicant also has applied to acquire Stapleton Investment Company, Stapleton, Nebraska, and thereby engage in general insurance activities in a town with a population of less than 5,000, pursuant to section 225.28(b)(11)(iii)(A).

Board of Governors of the Federal Reserve System, May 1, 2015.
Margaret McCloskey Shanks,
Deputy Secretary of the Board.

[FR Doc. 2015-10591 Filed 5-5-15; 8:45 am]

BILLING CODE 6210-01-P